DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: Export Controls of High Performance Computers.

Agency Form Number: None.

OMB Approval Number: 0694-0073.

Type of Request: Extension of a currently approved collection of information.

Burden: 78 hours.

Average Time Per Response: 42 to 107 minutes per response.

Number of Respondents: 5 respondents.

Needs and Uses: These provisions are established in recognition of the strategic significance of these high performance computers, in particular their potential to make substantial contributions to activities of national security and weapons proliferation concerns. BXA will conduct annual reviews of the HPC definition, the threshold levels, the safeguards, the HPC country Tier groupings and variable safeguard requirements to be consistent with our national security and proliferation concerns, technical advancements, and changes in market conditions. In addition, recommendations from the public for revising the controls will be considered.

Affected Public: Individuals, businesses or other for-profit institutions.

Respondent's Obligation: Required.

OMB Desk Officer: David Rostker.

Copies of the above information collection proposal can be obtained by calling or writing Madeleine Clayton, DOC Paperwork Clearance Officer, (202) 482-3129, Department of Commerce, Room 6608, 14th and Constitution Avenue, NW, Washington, DC 20230.

Written comments and recommendations for the proposed information collection should be sent within 30 days of publication of this notice to David Rostker, OMB Desk Officer, Room 10202, New Executive Office Building, Washington, DC 20230.

Dated: March 29, 2002.
Madeleine Clayton,
Departmental Paperwork Clearance Officer, Office of the Chief Information Officer.

[FR Doc. 02-8028 Filed 4-2-02; 8:45 am]

BILLING CODE 3510-33-P